NATIONAL SCIENCE FOUNDATION

Advisory Committee for Environmental Research and Education; Notice of Meeting

In accordance with the Federal Advisory Committee Act (Public Law 92-463, as amended), the National Science Foundation announces the following meeting:

Name: Advisory Committee for Environmental Research and Education, #9487.

Dates: September 11, 2013, 9:00 a.m.-5:00 p.m., and September 12, 2013, 9:00 a.m.-2:00 p.m.

Place: Stafford I, Room 1235, National Science Foundation, 4201 Wilson Blvd., Arlington, Virginia 22230.

Type of Meeting: Open.

Contact Person: Beth Zelenski, National Science Foundation, Suite 705, 4201 Wilson Blvd., Arlington, Virginia 22230. Phone 703-292-8500.

To help facilitate your entry into the building, contact Beth Zelenski (ezelensk@nsf.gov). Your request should be received on or prior to September 9, 2013.

Minutes: May be obtained from the contact person listed above.

Purpose of Meeting: To provide advice, recommendations, and oversight concerning support for environmental research and education.

Agenda

September 11, 2013

• Update on NSF environmental research and education activities and collaborations

• Meeting with NSF Senior Leadership and Acting Director, Dr. Cora Marrett

September 12, 2013

• Discussion on urban sustainability issues

• Discussion on NSF merit review criteria

Dated: August 2, 2013.
Susanne Bolton,
Committee Management Officer.

[FR Doc. 2013-19092 Filed 8-6-13; 8:45 am]

BILLING CODE 7555-01-P